COMMODITY FUTURES TRADING COMMISSION

Chicago Mercantile Exchange (CME): Proposed Amendments to the Weight Specifications, Speculative Position Limits, Delivery Locations, and Delivery Procedures for the Live Cattle Futures Contract

Correction

In notice document 03-1534 beginning on page 3231 in the issue of Thursday, January 23, 2003, make the following corrections:

1. On page 3232, in the first column, in the fifth paragraph, in the seventh line, “$0.15” should read, “$.015”.

2. On page 3232, in the second column, under the Background heading, in the sixth line, “an” should read, “no”.

[FR Doc. C3-1534 Filed 3-4-03; 8:45 am]

BILLING CODE 1505-01-D

DEPARTMENT OF TRANSPORTATION

Federal Aviation Administration

14 CFR Part 39

[Docket No. 2002-NM-44-AD; Amendment 39-13006; AD 2002-26-18]

RIN 2120-AA64

Airworthiness Directives; Boeing Model 737-600,-700,-,700C,-800, and -900 Series Airplanes

Correction

In rule document 03-17 beginning on page 481 in the issue of Monday, January 6, 2003, make the following correction:

§ 39.13 [Corrected]

On page 483, in § 39.13, in the first column, in the second full paragraph, in the second line, “changing” should read, “chafing”.

[FR Doc. C3-17 Filed 3-4-03; 8:45 am]

BILLING CODE 1505-01-D

DEPARTMENT OF TRANSPORTATION

Federal Motor Carrier Safety Administration

[FMCSA Docket No. FMCSA-2002-12423]

Qualification of Drivers; Exemption Applications; Vision

Correction

In notice document 03-4425 beginning on page 8794 in the issue of Tuesday, February 25, 2003, make the following corrections:

1. On page 8797, under the heading Discussion of Comments, in the third column, in the second full paragraph, in the second line, “psychiatrist” should read, “physiatrist”.

2. On the same page, under the same heading, in the same column, in the same paragraph, in the fifth line, “psychiatrist” should read, “physiatrist”.

[FR Doc. C3-4425 Filed 3-4-03; 8:45 am]

BILLING CODE 1505-01-D